SECURITIES AND EXCHANGE COMMISSION

[Release No. 34-85065; File No. SR-BOX-2018-14]

Self-Regulatory Organizations; BOX Exchange LLC; Notice of Withdrawal of Proposed Rule Change To Adopt Rules Governing the Trading of Complex Qualified Contingent Cross Orders and Complex Customer Cross Orders

February 6, 2019.

On May 22, 2018, BOX Exchange LLC (the “Exchange”) filed with the Securities and Exchange Commission (“Commission”), pursuant to Section 19(b)(1) of the Securities Exchange Act of 1934 ¹ and Rule 19b-4 thereunder,² a proposed rule change to adopt rules governing the trading of Complex Qualified Contingent Cross Orders and Complex Customer Cross Orders. The proposed rule change was published for comment in the Federal Register on June 8, 2018.³ On July 16, 2018, pursuant to Section 19(b)(2) of the Act,⁴ the Commission designated a longer period within which to approve the proposed rule change, disapprove the proposed rule change, or institute proceedings to determine whether to approve or disapprove the proposed rule change.⁵ On September 5, 2018, the Commission instituted proceedings under Section 19(b)(2)(B) of the Act ⁶ to determine whether to approve or disapprove the proposed rule change.⁷ The Commission received one comment letter from the Exchange responding to the Order Instituting Proceedings.⁸ On November 27, 2018, pursuant to Section 19(b)(2) of the Act,⁹ the Commission designated a longer period within which to issue an order approving or disapproving the proposed rule change.¹⁰ On February 1, 2019, the Exchange withdrew the proposed rule change (SR-BOX-2018-14).

¹ 15 U.S.C. 78s(b)(1).

² 17 CFR 240.19b-4.

³ See Securities Exchange Act Release No. 83367 (June 4, 2018), 83 FR 26719.

⁴ 15 U.S.C. 78s(b)(2).

⁵ See Securities Exchange Act Release No. 83647, 83 FR 34635 (July 20, 2018). The Commission designated September 6, 2018 as the date by which the Commission shall approve or disapprove, or institute proceedings to determine whether to approve or disapprove, the proposed rule change.

⁶ 15 U.S.C. 78s(b)(2)(B).

⁷ See Securities Exchange Act Release No. 84031, 83 FR 46003 (September 11, 2018) (“Order Instituting Proceedings”).

⁸ See letter to Brent J. Fields, Secretary, Commission, from Alanna Barton, General Counsel, Exchange, dated October 12, 2018.

⁹ 15 U.S.C. 78s(b)(2).

¹⁰ See Securities Exchange Act Release No. 84658, 83 FR 62395 (December 3, 2018). The Commission designated February 3, 2019 as the date by which the Commission shall either approve or disapprove the proposed rule change.

¹¹ 17 CFR 200.30-3(a)(12).

For the Commission, by the Division of Trading and Markets, pursuant to delegated authority.¹¹
Eduardo A. Aleman,
Deputy Secretary.

[FR Doc. 2019-01944 Filed 2-11-19; 8:45 am]

BILLING CODE 8011-01-P